DEPARTMENT OF THE INTERIOR

Bureau of Land Management

[WY-930-09-1610-DO-015F]

Notice of Intent To Prepare Resource Management Plans and Associated Environmental Impact Statement, Initiate Public Scoping, and Call for Coal and Other Resource Information

AGENCY: Bureau of Land Management, Interior.

ACTION: Notice of Intent and Call for Coal and Other Resource Information

SUMMARY: Notice is hereby given that the Wyoming Bureau of Land Management (BLM) intends to prepare (1) a Resource Management Plan (RMP) for the Cody Field Office and (2) a RMP for the Worland Field Office. These two actions will require a single Environmental Impact Statement (EIS). These two RMPs and the associated EIS will be called the Bighorn Basin Resource Management Plan Revision Project. The resulting RMPs will replace the Washakie and Grass Creek RMPs, in Worland, and the Cody RMP. The BLM is also soliciting resource information for coal and other resources for the planning area.

DATES: The BLM will announce public scoping meetings to identify relevant issues through local news media, a project newsletter, and the project Web site http://www.blm.gov/wy/st/en/programs/Planning/RMPs/bighorn at least 15 days prior to the first meeting. The BLM will provide formal opportunities for public participation upon publication of the Draft RMP/EIS, currently scheduled for 2010.

ADDRESSES: You may submit written comments by any of the following methods:

Web Site: http://www.blm.gov/wy/st/en/programs/Planning/RMPs/bighorn.

E-mail: BBRMP_WYMail@blm.gov .

Mail: Worland Field Office, Attn: RMP Project Manager, 101 South 23rd, P.O. Box 119, Worland, WY 82401.

In order to reduce the use of paper and control costs, we strongly encourage the public to submit comments electronically at the project Web site. Comments submitted to BLM for use in this planning effort, including names and home addresses of individuals submitting comments, are subject to disclosure under the Freedom of Information Act (FOIA) (5 U.S.C. 522). Written comments received during the public scoping process may be published as part of the environmental analysis process. After the close of the public scoping period, public comments submitted, including names, e-mail addresses, and street addresses of respondents, will be available for public review at the BLM Worland Office during regular business hours (7:45 a.m. to 4:30 p.m.), Monday through Friday (except federal holidays).

FOR FURTHER INFORMATION: For further information and/or to have your name added to the project mailing list, contact Caleb Hiner, RMP Project Manager, at the Worland Field Office (307) 347-5171.

SUPPLEMENTARY INFORMATION: The purpose of the public scoping process is to identify issues and planning criteria that should be considered in the RMP/EIS and to initiate public participation in the planning process. BLM personnel will be present at scoping meetings to explain the planning process and other requirements for preparing a RMP/EIS.

The Planning Area for the project includes lands within the BLM Worland and Cody Field Offices' administrative boundaries, in all of Big Horn, Park, and Washakie Counties, and most of Hot Springs County in north-central Wyoming. The Planning Area includes all lands, regardless of jurisdiction, totaling 5.6 million acres; however, the BLM will only make decisions on lands that fall under the BLM's jurisdiction. Lands within the Planning Area under the BLM's jurisdiction make up the Decision Area. The Decision Area consists of BLM-administered surface, totaling 3.2 million acres, and mineral estate, totaling 4.2 million acres. The Planning Area includes 12 Wilderness Study Areas (WSAs), nine Areas of Critical Environmental Concern (ACECs), two areas of Special Designation, and seven Special Recreation Management Areas.

This planning process will fulfill the needs and obligations set forth by the National Environmental Policy Act (NEPA), the Federal Land Policy and Management Act (FLPMA), and BLM management policies. The BLM will work collaboratively with interested parties to identify the management decisions that are best suited to local, regional, and national needs and concerns.

The purpose of the public scoping process is to determine relevant issues that will influence the scope of the environmental analysis and EIS alternatives. These issues also guide the planning process. You may submit comments on issues and planning criteria in writing to the BLM at any public scoping meeting, or you may submit them to the BLM using one of the methods listed in the ADDRESSES section above. To be most helpful, you should submit formal scoping comments during the comment period. Before including your address, phone number, e-mail address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, are available for public inspection in their entirety. The comments and list of attendees for each scoping meeting will be available to the public for 30 days after the scoping period to clarify the views expressed.

Preliminary issues and management concerns have been identified by BLM personnel, other agencies, and in meetings with individuals and user groups. They represent the BLM's knowledge to date regarding the existing issues and concerns with current land management. The major issues that will be addressed in this planning effort include: Energy and minerals management; climate change and greenhouse gas emissions; management of riparian areas and water quality concerns; livestock grazing management; recreation/visitor use and safety management; travel management, including Off Highway Vehicle use; management of wildlife habitat including protection of sensitive species habitat; land tenure adjustments, realty leases, and utility corridor rights-of-way; management of areas with special values, such as ACECs; and visual resource management.

Comments received during scoping will be placed in one of three categories: (1) Issues to be resolved in the plan; (2) Issues to be resolved through policy or administrative action; or (3) Issues beyond the scope of this plan.

The BLM will provide a rationale for the categorization of comments. In addition to these major issues, a number of management questions and concerns will be addressed in the RMPs. The public is encouraged to help identify these questions and concerns during the scoping phase. Planning criteria are the constraints or ground rules that are developed to guide and direct the revision of the RMPs. The planning criteria serve to: ensure the planning effort is consistent with and incorporates legal requirements; provide for management of all resource uses in the planning area; focus on the issues; identify the scope and parameters of the planning effort; inform the public of what to expect from the planning effort; and help ensure the RMP revision process is accomplished efficiently. Planning criteria are based on laws and regulations, guidance provided by the BLM Wyoming State Director, results of consultation and coordination with the public, input from other agencies and governmental entities, and Indian tribes, analysis of information pertinent to the planning area, public input, and professional judgment.

Preliminary planning criteria are: (1) This planning effort will recognize valid existing rights; (2) management actions must comply with laws, executive orders, policy, and regulations; (3) lands covered in the RMP/EIS for the planning effort include lands that may affect, or be affected by, the management occurring on the BLM-administered public lands in the planning area; (4) within the planning area, there will be no RMP decisions made on non-federal land surface or mineral estate, on Federal lands administered by other Federal agencies, or the Federal mineral estate underlying Federal lands administered by other Federal agencies; (5) a collaborative and multi-jurisdictional approach will be used, where possible, to jointly determine the desired future condition and management direction for the public lands; (6) to the extent possible and within legal and regulatory parameters, BLM management and planning decisions will complement the planning and management decisions of other agencies, State and local governments, and Native American tribes, with jurisdictions intermingled with and adjacent to the planning area; (7) planning and management direction will be focused on the relative values of resources and not the combination of uses that will give the greatest economic return or economic output; (8) where practicable and timely for the planning effort, current scientific information, research, and new technologies will be considered; (9) Reasonably Foreseeable Action or Activity (RFA) scenarios for all land and resource uses (including minerals) will be developed and portrayed based on historical, existing, and projected levels for all programs; (10) existing endangered species recovery plans, including plans for reintroduction of endangered and other species, will be considered. The BLM will use an interdisciplinary approach to develop the RMPs to ensure consideration of the variety of resource issues and concerns identified. Specialists with expertise in the following disciplines will be involved in the planning process: rangeland management, minerals and geology, renewable energy, forestry, outdoor recreation, archaeology, paleontology, caves and karsts, wildlife and fisheries, lands and realty, hydrology, soils, sociology, special management areas, hazardous materials, wild horses, and economics.

Parties interested in leasing and development of Federal coal in the planning area should provide coal resource data for their area(s) of interest. Specifically, information is requested on the location, quality, and quantity of Federal coal with development potential, and on surface resource values related to the 20 coal unsuitability criteria described in 43 CFR part 3461. This information will be used for any necessary updating of coal screening determination (43 CFR 3420.1-4) in the Decision Area and in the environmental analysis. In addition to coal resource data, the BLM seeks resource information and data for other public land values (e.g., air quality, cultural and historic resources, fire/fuels, fisheries, forestry, lands and realty, non-energy minerals and geology, oil and gas (including coal-bed natural gas), paleontology, rangeland management, recreation, soil, water, and wildlife) in the planning area. The purpose of this request is to assure that the planning effort has sufficient information and data to consider a reasonable range of resource uses, management options, and alternatives for the public lands.

Proprietary data marked as confidential may be submitted in response to this call for coal and other resource information. Please submit all proprietary information submissions to the address listed above. The BLM will treat submissions marked as “Confidential” in accordance with applicable laws and regulations governing the confidentiality of such information.

Authority: 43 CFR 1610.2(c) and 3420.1-2.

Dated: September 29, 2008.
Donald A. Simpson,
Acting State Director.

[FR Doc. E8-23536 Filed 10-16-08; 8:45 am]

BILLING CODE 4310-22-P